DEPARTMENT OF TRANSPORTATION

Federal Aviation Administration

Notice of Intention to Grant Exclusive License in Government-owned Patents

AGENCY: Federal Aviation Administration, DOT.

ACTION: Notice.

SUMMARY: The Federal Aviation Administration hereby gives notice of its intention to grant an exclusive license in the invention titled “Heat Release Rate Calorimeter for Milligram Samples”, U.S. Patent No. 6,464,391, filed December 22, 2000, and a nonexclusive license in the invention titled “Microscale Combustion Calorimeter”, U.S. Patent No. 5,981,290, filed April 7, 1997. The proposed licensee is the inventor, an employee of the Federal Aviation Administration. The license granted will comply with 35 U.S.C. 209 and 37 CFR part 404. The respective rights of the Government and the Government employee inventor have previously been determined in accordance with 37 CFR part 501.

The Federal Aviation Administration previously published a notice in the Federal Register announcing the availability for licensing of these two government-owned inventions. 67 FR 60718, Sept. 26, 2002. There were no responses to that notice.

DATES: Comments in response to this notice may be submitted on or before September 15, 2003.

ADDRESSES: Interested parties may contact James Drew, Senior Attorney, ACT-7, Federal Aviation Administration William J. Hughes Technical Center, Atlantic City International Airport, New Jersey 08405, or by e-mail to james.drew@faa.gov.

FOR FURTHER INFORMATION CONTACT: Dr. Richard E. Lyon, AAR-422, Federal Aviation Administration William J. Hughes Technical Center, Atlantic City International Airport, New Jersey 08405, telephone (609) 485-6076, or by e-mail to richard.lyon@faa.gov.

Dated: August 4, 2003
James J. Drew,
Senior Attorney, Intellectual Property.

[FR Doc. 03-20774 Filed 8-13-03; 8:45 am]

BILLING CODE 4910-13-M